DEPARTMENT OF COMMERCE

Bureau of Industry and Security

15 CFR Parts 740 and 774

[Docket No. 251222-0187]

RIN 0694-AK30

Streamlining Export Controls for Drone Exports

AGENCY: Bureau of Industry and Security, Department of Commerce.

ACTION: Interim final rule.

SUMMARY: The Bureau of Industry and Security (BIS) is easing export controls on certain civil Unmanned Aerial Vehicles (UAVs) and related technologies, which currently need a license to be exported to most countries. In particular, this interim final rule (IFR): a) allows less sensitive UAVs—namely, commercial UAVs with a maximum endurance of less than one hour, for which there is broad foreign availability—to be exported to most Wassenaar Arrangement Participating States (Country Group A:1) without a license; and b) allows more capable non-military UAVs—namely, certain long-range cargo delivery and agricultural spraying drones—to be exported to certain U.S. partners and allies (Country Group A:5) under License Exception Strategic Trade Authorization (STA). Exports pursuant to License Exception STA are subject to notification and reporting requirements to ensure the security of the exports. BIS is making these changes pursuant to Executive Order (E.O.) 14307, “Unleashing American Drone Dominance.”

DATES:

Effective date: This rule is effective on January 20, 2026.

Comment date: Comments on this IFR must be received by BIS no later than February 19, 2026.

ADDRESSES: Comments on this IFR may be submitted to the Federal rulemaking portal at: www.regulations.gov. The regulations.gov ID for this IFR is BIS-2025-0092. Please refer to RIN 0694-AK30 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For technical questions regarding this IFR, contact Sharon Bragonje, Nuclear and Missile Technology Division, Office of Nonproliferation and Foreign Policy Controls, Phone: 202-482-0434, Email: Sharon.Bragonje@bis.doc.gov.

For all other questions regarding this IFR, contact Logan Norton, Export Policy Analyst, Regulatory Policy Division, Phone: 202-482-5334, Email: RPD2@bis.doc.gov.

SUPPLEMENTARY INFORMATION:

I. Background

On June 6, 2025, the President issued E.O. 14307, “Unleashing American Drone Dominance” (90 FR 24727). E.O. 14307 tasked the Secretary of Commerce to review and, as appropriate and consistent with applicable law, amend the Export Administration Regulations (EAR) “to enable the expedited export of U.S.-manufactured civil UAVs to foreign partners, provided such end users and recipient countries are not identified as foreign adversaries and the export does not pose a risk of diversion to programs of concern, or are otherwise restricted under applicable statutes or regulations.” See Sec. 8(a) of E.O. 14307 that tasked the Secretary of Commerce to take these actions. Through this IFR, BIS is taking action in response to this tasking in E.O. 14307.

E.O. 14307 promotes the U.S. UAV industry, which is enhancing United States productivity, creating highly-skilled jobs, and reshaping the future of aviation. UAVs are already transforming industries from logistics and infrastructure inspection to precision agriculture, emergency response, and public safety. Although the UAV industry has made significant technological advancements in the past decade, and capabilities that once provided a military advantage have become increasingly available to consumers at significantly reduced costs, relevant export controls have not kept pace with the advancement of the commercial UAV market. Expanding the export of trusted, U.S.-manufactured UAVs and related technologies to global markets supports a strong and secure domestic UAV industry vital to the U.S. defense industrial base and advances U.S. national security interests as articulated in the Export Control Reform Act of 2018 (ECRA) (50 U.S.C. 4811(2) and (7)).

With this IFR, BIS has identified specific regulatory changes, detailed in section II below, which achieve the President's objectives of facilitating the export, reexport, and transfer (in-country) of UAVs and related technologies subject to the EAR under conditions that do not pose a risk to U.S. national security and foreign policy interests. Pursuant to ECRA, BIS administers U.S. laws, regulations, and policies governing the export, reexport, and transfer (in-country) of commodities, software, and technology (collectively, “items”) subject to the EAR (15 CFR parts 730-774).

II. Amendments to the EAR

This IFR makes two primary regulatory changes by: (1) revising the reason for control for UAVs described under Export Control Classification Number (ECCN) 9A012.a.1; and (2) making certain UAVs described in ECCNs 9A012 and 9A120 eligible for License Exception STA under newly added § 740.20(c)(1)(ii).

Prior to the effective date of this IFR, UAVs described under ECCN 9A012.a.1 were controlled for National Security Column 1 (NS1) reasons and were only eligible for export “no license required” to Australia, Canada, and the United Kingdom, pursuant to the Commerce Control List (CCL)-based license requirements specified under the CCL in supplement no. 1 to part 774 and the Commerce Country Chart under supplement no. 1 to part 738. See the April 19, 2024, BIS IFR, “Export Control Revisions for Australia, United Kingdom, United States (AUKUS) Enhanced Trilateral Security Partnership” (89 FR 28594). This IFR revises the applicable reason for control to NS Column 2 (NS2) for .a.1 items, making them eligible for export and reexport to destinations in Country Group A:1 without a license. All other items detailed under ECCN 9A012 will retain their original NS1 reason for control.

Certain UAVs described under ECCNs 9A012 and 9A120 are also subject to a Missile Technology Column 1 (MT) reasons for control. These UAVs are MT-controlled because they are capable of either a maximum range of at least 300 km (certain ECCN 9A012 items) or incorporate an aerosol dispensing system/mechanism with a capacity greater than 20 liters (all ECCN 9A120 items).

Prior to the effective date of this IFR, MT-controlled UAVs were not eligible for License Exception STA. The License Exceptions available to MT-controlled items are listed in § 740.2(a)(5)(i) of the EAR, and STA was not listed as a License Exception available for MT-controlled items prior to this rule. Additionally, prior to this rule, § 740.20(b)(2)(iii) prohibited items controlled for MT reasons from using License Exception STA, and § 740.20(c) did not include an authorizing paragraph addressing MT reasons for control that is required for STA eligibility. Accordingly, an Individual Validated License (IVL) (a.k.a. a license under the EAR) issued by BIS was typically required to export such items to all destinations other than Australia, Canada, and the United Kingdom.

This IFR makes exports and reexports of certain MT-controlled UAVs eligible for License Exception STA. Specifically, MT-controlled UAVs will be eligible for License Exception STA when exported, reexported, or transferred (in-country) to or within Country Group A:5, provided they are not capable of delivering at least a 500 kg payload to a distance of at least 300 km. Likewise, UAVs with spraying functionality controlled for MT reasons under ECCN 9A120 will be eligible for License Exception STA when exported, reexported, or transferred (in-country) to or within Country Group A:5, provided they are not capable of delivering at least a 500 kg payload to a distance of at least 300 km.

This IFR does not need to make any conforming changes to MT-controlled ECCNs on the CCL to implement this new License Exception STA eligibility because this IFR retains the general restriction structure on the use of license exceptions for MT-controlled items under §§ 740.2(a)(5) and 740.20(b)(2)(iii). Only those MT-controlled items specified under § 740.20(c)(1)(ii)(A) may overcome these restrictions for MT-controlled items for purposes of License Exception STA. This IFR adopts this structure to eliminate the need to add a Special Conditions for License Exception STA section to MT-controlled ECCNs. This IFR redesignates what had been paragraph (c)(1) in § 740.20 as paragraph (c)(1)(i) and what had been the note to paragraph (c)(1) as note paragraph (c)(1)(i). This IFR also adds a new paragraph (c)(1)(ii) to specify that certain MT-controlled UAVs described in new paragraph (c)(1)(ii)(A) are eligible for export to Country Group A:5 under License Exception STA. This IFR also adds a new note to paragraph (c)(1) to further clarify that only MT-controlled items that meet the criteria of paragraph (c)(1)(ii) and are controlled for one or more of the reasons for control specified under paragraph (c)(1)(i) may be authorized to Country Group A:5 under paragraph (c)(1).

To overcome the general restriction on the use of license exceptions for MT-controlled items and make the UAVs detailed above eligible for License Exception STA to Country Group A:5, BIS: (1) revises § 740.20(b)(2)(iii), which now provides a carveout for these MT items under License Exception STA; and (2) makes a conforming change by adding § 740.2(a)(5)(i)(G), an exclusion from the general restriction on the use of License Exceptions for MT items. With these changes, certain MT-controlled UAVs described in ECCNs 9A012 and 9A120 will become eligible for License Exception STA to or among Country Group A:5, provided the export, reexport, or transfer (in-country) is not otherwise restricted under one of the other general restrictions under § 740.2 and meets all of the applicable terms and conditions of License Exception STA under § 740.20, including new paragraph (c)(1)(ii) that this IFR adds.

Export Control Reform Act of 2018

On August 13, 2018, the President signed into law the John S. McCain National Defense Authorization Act for Fiscal Year 2019, which included ECRA (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. BIS has examined the impact of this rule as required by E.O.s 12866 and 13563, which direct agencies to assess all costs and benefits of available regulatory alternatives and, if regulation is necessary, to select regulatory approaches that maximize net benefits (e.g., potential economic, environmental, public, health, and safety effects, distributive impacts, and equity). Pursuant to E.O. 12866, as amended, this IFR has been determined to be a “significant regulatory action.” Although it is a “significant regulatory action” for purposes of E.O. 12866, this rule is exempt from the requirements of E.O. 14192, because it is being issued with respect to a national security function of the United States, per section 5(a) of E.O. 14192.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves the following OMB-approved collections of information subject to the PRA:

• 0694-0088, “Simple Network Application Process and Multipurpose Application Form,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls under the EAR will result in a decrease of 30 license applications submitted annually to BIS. Additional information regarding these collections of information—including all background materials—can be found at: https://www.reginfo.gov/public/do/PRAMain by using the search function to enter either the title of the collection or the OMB Control Number.

3. This rule does not contain policies with Federalism implications as that term is defined under E.O. 13132.

4. Pursuant to section 1762 of ECRA (50 U.S.C. 4821), this action is exempt from the Administrative Procedure Act (APA) (5 U.S.C. 553) requirements for notice of proposed rulemaking, opportunity for public participation, and delay in effective date.

5. Because neither the APA nor any other law requires that notice of proposed rulemaking and an opportunity for public comment be given for this rule, the analytical requirements of the Regulatory Flexibility Act (5 U.S.C. 601 et seq.) are not applicable. Accordingly, no Final Regulatory Flexibility Analysis is required, and none has been prepared.

List of Subjects

15 CFR Part 740

Administrative practice and procedure, Exports, Reporting and recordkeeping requirements.

15 CFR Part 774

Exports, Reporting and recordkeeping requirements.

Accordingly, parts 740 and 774 of the Export Administration Regulations (15 CFR parts 730-774) are amended as follows:

PART 740—LICENSE EXCEPTIONS

1. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228.

2. Amend section 740.2 by:

a. Revising paragraphs (a)(5)(i)(E) and (F), and

b. Adding paragraph (a)(5)(i)(G).

The revisions and addition read as follows:

§ 740.2 Restrictions on all License Exceptions.

(a) * * *

(5) * * *

(i) * * *

(E) License Exception AVS (§ 740.15(b)(1) through (b)(4), (c)(1), (2), (e), and (f) of the EAR);

(F) License Exception APR (§ 740.16(c) through (f) of the EAR); and

(G) License Exception STA (§ 740.20(c)(1)(ii) of the EAR).

* * * * *

3. Amend section 740.20 by:

a. Revising paragraph (b)(2)(iii); and

b. Revising paragraph (c)(1).

The revisions read as follows:

§ 740.20 License Exception Strategic Trade Authorization (STA).

* * * * *

(b) * * *

(2) * * *

(iii) License Exception STA may not be used for any item that is controlled for reason of encryption items (EI), short supply (SS), surreptitious listening (SL), or chemical weapons (CW). License Exception STA may not be used for any item that is controlled for missile technology (MT) reasons, except for MT-controlled items specified under paragraph (c)(1)(ii) of this section.

* * * * *

(c) Authorizing paragraphs—(1) Multiple reasons for control. (i) Applicable reasons for control other than missile technology (MT). Exports, reexports, and transfers (in-country) in which the only applicable reason(s) for control is (are) national security (NS); chemical or biological weapons (CB); nuclear nonproliferation (NP); regional stability (RS); crime control (CC); and/or significant items (SI) are authorized for destinations in or nationals of Country Group A:5 (see supplement no. 1 to part 740 of the EAR).

Note to paragraph (c)(1)(i). License Exception STA under § 740.20(c)(1)(i) may be used to authorize the export, reexport, or transfer (in-country) of “600 series” items only if the purchaser, intermediate consignee, ultimate consignee, and end user have previously been approved on a license or other approval, i.e., Directorate of Defense Trade Controls (DDTC) Manufacturing License Agreement (MLA), Technical Assistance Agreement (TAA), Warehouse Distribution Agreement (WDA), or General Correspondence approval (GC) issued by BIS or DDTC at the U.S. Department of State.

(ii) MT reason for control. Exports, reexports, and transfers (in-country) of items controlled for MT reasons specified under paragraph (c)(1)(ii)(A) of this section are authorized for destinations in Country Group A:5 (see supplement no. 1 to part 740 of the EAR).

(A) Unmanned aerial vehicles (UAVs) and unmanned “airships” controlled for missile technology (MT) reasons in ECCNs 9A012 and 9A120 are authorized for destinations in Country Group A:5 (see supplement no. 1 to part 740 of the EAR), provided that the UAV or unmanned “airship” cannot deliver a payload of at least 500 kg to a range of at least 300 km.

(B) [Reserved]

Note to paragraph (c)(1): The only MT-controlled items that may be authorized under this paragraph (c)(1) are those specified in paragraph (c)(1)(ii) of this section and controlled for one or more of the reasons for control specified under paragraph (c)(1)(i) of this section.

* * * * *

PART 774—THE COMMERCE CONTROL LIST

4. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228.

5. Supplement no. 1 to part 774 is amended by revising ECCNs 9A012 to read as follows:

* * * * *

9A012 Non-military “Unmanned Aerial Vehicles,” (“UAVs”), unmanned “airships”, related equipment and “components”, as follows (see List of Items Controlled).

License Requirements

Reason for Control: NS, MT, AT

Control(s) | Country chart (See supp. no. 1 to part 738)
NS applies to entire entry, except .a.1 | NS Column 1.
NS applies to 9A012.a.1 | NS Column 2.
MT applies to non-military Unmanned Aerial Vehicles (UAVs) and Remotely Piloted Vehicles (RPVs) that are capable of a maximum range of at least 300 kilometers (km), regardless of payload, and UAVs that meet the requirements of 9A120 | MT Column 1.
AT applies to entire entry | AT Column 1.

List Based License Exceptions (See Part 740 for a Description of all License Exceptions)

LVS: N/A

GBS: N/A

List of Items Controlled

Related Controls: (1) See the U.S. Munitions List Category VIII (22 CFR part 121). (2) Also see ECCN 9A610 and § 744.3 of the EAR. (3) For “UAVs” that are “sub-orbital craft,” see ECCNs 9A004.h and 9A515.a.

Related Definitions: N/A

Items:

a. “UAVs” or unmanned “airships”, designed to have controlled flight out of the direct `natural vision' of the `operator' and having any of the following:

a.1. Having all of the following:

a.1.a. A maximum `endurance' greater than or equal to 30 minutes but less than 1 hour; and

a.1.b. Designed to take-off and have stable controlled flight in wind gusts equal to or exceeding 46.3 km/h (25 knots); or

a.2. A maximum `endurance' of 1 hour or greater;

Technical Notes: 1. For the purposes of 9A012.a, `operator' is a person who initiates or commands the “UAV” or unmanned “airship” flight.

2. For the purposes of 9A012.a, `endurance' is to be calculated for ISA conditions (ISO 2533:1975) at sea level in zero wind.3. For the purposes of 9A012.a, `natural vision' means unaided human sight, with or without corrective lenses.

b. Related equipment and “components”, as follows:

b.1 [Reserved]

b.2. [Reserved]

b.3. Equipment or “components” “specially designed” to convert a manned “aircraft” or a manned “airship” to a “UAV” or unmanned “airship”, controlled by 9A012.a;

b.4. Air breathing reciprocating or rotary internal combustion type engines, “specially designed” or modified to propel “UAVs” or unmanned “airships”, at altitudes above 15,240 meters (50,000 feet).

* * * * *

Julia A. Khersonsky,
Deputy Assistant Secretary for Strategic Trade.

[FR Doc. 2026-01059 Filed 1-20-26; 8:45 am]

BILLING CODE 3510-33-P